DEPARTMENT OF COMMERCE

International Trade Administration

[A-570-868]

Notice of Extension of Preliminary Results of Antidumping Duty Review: Certain Folding Metal Tables and Chairs from the People's Republic of China

AGENCY: Import Administration, International Trade Administration, Department of Commerce.

SUMMARY: The Department of Commerce (“the Department”) is conducting an administrative review of the antidumping duty order on certain folding metal tables and chairs (“FMTC”) from the People's Republic of China (“PRC”) in response to requests by petitioner Meco Corporation (“petitioner”), interested party EJ Footwear (“EJ”), and respondent Wok and Pan Industry, Inc. (“Wok & Pan”). The review covers shipments to the United States for the period December 3, 2001, to May 31, 2003, by Dongguang Shichang Metals Factory, Ltd. (“Shichang”) and Wok & Pan. For the reasons discussed below, we are extending the preliminary results of this administrative review by 120 days, to no later than June 29, 2004.

EFFECTIVE DATE: January 15, 2004.

FOR FURTHER INFORMATION CONTACT: Anya Naschak at (202) 482-6375 or John Drury at (202) 482-0195; Antidumping and Countervailing Duty Enforcement Group III, Import Administration, International Trade Administration, U.S. Department of Commerce, 14th Street and Constitution Avenue, N.W., Washington, D.C. 20230.

SUPPLEMENTARY INFORMATION:

Background

On June 16, 2003, in response to the Department's notice of opportunity to request a review published in the Federal Register, Wok & Pan requested the Department conduct an administrative review of the antidumping duty order on FMTC from the PRC (See Notice of Antidumping Duty Order: Folding Metal Tables and Chairs from the People's Republic of China, 67 FR 43277 (June 27, 2002)) for its exports of subject merchandise. On June 26, 2003, EJ requested the Department conduct an administrative review of entries of subject merchandise made by Shichang. On June 30, 2003, the petitioner requested the Department conduct an administrative review of entries of subject merchandise made by three Chinese producers/exporters: Feili Furniture Development Co., Ltd and Feili (Fujian) Co., Ltd (“Feili”), New-Tec Integration Co., Ltd. (“New-Tec”), and Shichang. The Department initiated the review for all companies. See Notice of Initiation of Antidumping and Countervailing Duty Administrative Reviews, Requests for Revocation in Part and Deferral of Administrative Reviews, 68 FR 44524, July 29, 2003 (“Initiation Notice”).

On October 27, 2003, petitioner filed a letter withdrawing their request for review for Feili Group and New-Tec. On October 30, 2003, the Department requested that Feili Group and New-Tec produce an official copy of its request for review and evidence showing that this request had been appropriately served on interested parties. The Department determined that Feili Group and New-Tec had not in fact filed a timely request for review. Because petitioner had withdrawn its request within the time limits set by 19 CFR 351.213(d)(1), the Department rescinded its review of Feili Group and New-Tec on November 26, 2003. See Certain Folding Metal Tables and Chairs from the People's Republic of China: Notice of Partial Rescission of First Antidumping Duty Administrative Review, 68 FR 66397 (November 26, 2003). The preliminary results are currently due not later than March 1, 2004.

Extension of Time Limits for Preliminary Results

Pursuant to section 751(a)(3)(A) of the Act and 19 CFR 351.213(h)(2) of the Department's regulations, the Department may extend the deadline for completion of the preliminary results of a review if it determines that it is not practicable to complete the preliminary results within the statutory time limit of 245 days from the last day of the anniversary month of the order for which the administrative review was requested. Because of the complexity of the issues, the scheduling of verification, and the numerous filing difficulties experienced by all the parties in this case, it is not practicable for the Department to complete this review within the time limit mandated by section 751(a)(3)(A) of the Act. Furthermore, the Department requires additional time to evaluate information submitted by Shichang.

Therefore, in accordance with section 751(a)(3)(A) of the Act and 19 CFR 351.213(h)(2) of the Department's regulations, the Department is extending the time limits for the preliminary results by 120 days, to no later than June 29, 2004. The deadline for the final results of this review will continue to be 120 days after publication of the preliminary results.

Dated: January 8, 2004.
Joseph A. Spetrini,
Deputy Assistant Secretary for Import Administration, Group 3.

[FR Doc. 04-907 Filed 1-14-04; 8:45 am]

BILLING CODE 3510-DS-S